DEPARTMENT OF THE INTERIOR

Fish and Wildlife Service

[FWS-R2-ES-2015-N003; FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before February 17, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-819477

Applicant: Parametrix, Inc., Albuquerque, New Mexico.

Applicant requests a renewal to a current permit for research and recovery purposes to conduct presence/absence surveys of the following species within New Mexico:

• Interior least tern (Sterna antillarum)

• Jemez Mountain salamander (Plethodon neomexicanus)

• Loach minnow (Tiaroga cobitis)

• Northern aplomado falcon (Falco femoralis)

• Piping plover (Charadrius melodus)

• Southwestern willow flycatcher (Empidonax traillii extimus)

• Spikedace (Meda fulgida)

Permit TE-829761

Applicant: U.S. Bureau of Land Management—Las Cruces District Office, Las Cruces, New Mexico.

Applicant requests a renewal to a current permit for research and recovery purposes to conduct presence/absence surveys of the following species within Arizona and New Mexico:

• Lesser long-nosed bat (Leptonycteris yerbabuenae)

• Loach minnow (Tiaroga cobitis)

• Mexican long-nosed bat (Leptonycteris nivalis)

• Northern aplomado falcon (Falco femoralis)

• Southwestern willow flycatcher (Empidonax traillii extimus)

• Spikedace (Meda fulgida)

Permit TE-819528

Applicant: Natural Heritage New Mexico, Albuquerque, New Mexico.

Applicant requests a renewal to a current permit for research and recovery purposes to conduct presence/absence surveys for northern aplomado falcon (Falco femoralis) and presence/absence surveys and nest monitoring of southwestern willow flycatcher (Empidonax traillii extimus) within New Mexico.

Permit TE-66055A

Applicant: Navajo Nation Zoological and Botanical Park, Window Rock, Arizona.

Applicant requests a new permit for research and recovery purposes to conduct husbandry and holding of black footed ferrets (Mustela nigripes) at the zoo within Arizona.

Permit TE-833866

Applicant: Texas Forest Service, Lufkin, Texas.

Applicant requests a renewal to a current permit for research and recovery purposes to conduct presence/absence surveys, cavity searchers, capture and band, and install restrictor plates for red-cockaded woodpecker (Picoides borealis) within Texas.

Permit TE-094365

Applicant: Oklahoma Water Resources Board, Oklahoma City, Oklahoma.

Applicant requests a new permit for research and recovery purposes to conduct presence/absence surveys, seining, and capture and release of leopard darter (Percina pantherina) and Neosho madtom (Noturus placidus) within Oklahoma.

Permit TE-54802B

Applicant: Megan Phillips-Schaap, Tulsa, Oklahoma.

Applicant requests a new permit for research and recovery purposes to conduct presence/absence surveys of American burying beetle (Nicrophorus americanus) within Arkansas, Kansas, Missouri, Nebraska, Oklahoma, and Texas.

Permit TE-091551

Applicant: U.S. Fish and Wildlife Service—Mexican Wolf Recovery Program, Albuquerque, New Mexico.

Applicant requests a renewal to a current permit for research and recovery purposes to conduct the following activities for Mexican gray wolf (Canis lupis baileyi) within Arizona and New Mexico: Capture, including, but not limited to, leg-hold traps, helicopter or ground darting and net-gunning, and captive capture methods; handle; possession; administration of health care; propagation; radio collar or other marking techniques; release; obtain and preserve blood, tissue, semen, ova, and other samples that are considered parts of wolves (scat is not considered a part of a wolf and can be collected without a permit); translocate; transport between approved Mexican wolf captive management facilities in the United States and Mexico, to approved release sites, and to and from the Vermejo Park Ranch; purposeful lethal take (lethal control is limited to Mexican wolves within the MWEPA in Arizona and New Mexico); hazing via less-than-lethal projectiles; injurious harassment; research; and any other USFWS-approved husbandry practice or management action for Mexican wolves.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: January 8, 2015.
Joy E. Nicholopoulos,
Acting Regional Director, Southwest Region, U.S. Fish and Wildlife Service.

[FR Doc. 2015-00551 Filed 1-14-15; 8:45 am]

BILLING CODE 4310-55-P